NATIONAL SCIENCE FOUNDATION

Advisory Committee for Social, Behavioral and Economic Sciences; Notice of Meeting

In accordance with Federal Advisory Committee Act (Pub. L. 92-463, as amended), the National Science Foundation (NSF) announces the following meeting:

Name and Committee Code: Advisory Committee for Social, Behavioral and Economic Sciences (#1171).

Dates and Times:

May 18, 2017; 9:00 a.m. to 5:00 p.m.

May 19, 2017; 9:00 a.m. to 1:00 p.m.

Place: National Science Foundation, 4201 Wilson Boulevard, Stafford I, Room 1235, Arlington, VA 22230.

Type of Meeting: Open.

Contact Person: Dr. Deborah Olster, Office of the Assistant Director, Directorate for Social, Behavioral and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate (SBE) programs and activities.

Agenda

Thursday, May 18, 2017; 9 a.m.-5 p.m.

SBE Directorate and Division Updates

Future Data Challenges for Social and Economic Statistics

Future of NSF-Supported Social Science Surveys

Meeting with NSF Leadership

Friday, May 19, 2017; 9 a.m.-1 p.m.

NSF “Big Idea” for Future Investment: Harnessing the Data Revolution

Update on the Committee on Equal Opportunities in Science and Engineering Activities

NSF Legislative/Budget Update

Science Communications and Outreach

Future Meetings, Assignments and Concluding Remarks

Dated: April 17, 2017.
Crystal Robinson,
Committee Management Officer.

[FR Doc. 2017-07964 Filed 4-19-17; 8:45 am]

BILLING CODE 7555-01-P